FEDERAL COMMUNICATIONS COMMISSION

47 CFR Part 73

[DA 02-206; MM Docket No. 02-12, RM-10356; MM Docket No. 02-13, RM-10357; MM Docket No. 02-14, RM-10358]

Radio Broadcasting Services: Ash Fork, AZ; Bunnell, FL; and Ketchum, ID

AGENCY: Federal Communications Commission.

ACTION: Proposed rule.

SUMMARY: This document proposes new allotments to Ash Fork, AZ; Bunnell, FL; and Ketchum, ID. The Commission requests comments on a petition filed on behalf of Liberty Ventures, III, LLC, proposing the allotment of Channel 285A at Ash Fork, Arizona, as the community's first local aural transmission service. Channel 285A can be allotted to Ash Fork in compliance with the Commission's minimum distance separation requirements with a site restriction of 13.6 kilometers (8.4 miles) west of Ash Fork, Arizona. The coordinates for Channel 285A at Ash Fork, are 35-12-27 North Latitude and 112-37-49 West Longitude. The Commission requests comments on a petition filed on behalf of Chesapeake-Portsmouth Broadcasting Corporation, proposing the allotment of Channel 254A at Bunnell, Florida, as the community's first local aural transmission service. Channel 254A can be allotted to Bunnell in compliance with the Commission's minimum distance separation requirements with a site restriction of 9.8 kilometers (6.1 miles) east of Bunnell. The coordinates for Channel 254A at Bunnell are 29-29-38 North Latitude and 81-09-45 West Longitude. The Commission requests comments on a petition filed by Best Ski Country Radio proposing the allotment of Channel 224A at Ketchum, Idaho, as that community's second local aural transmission service. Channel 224A can be allotted to Ketchum in compliance with the Commission's minimum distance separation requirements with a site restriction of 3.6 kilometers (2,2 miles) northwest of Ketchum. The coordinates for Channel 224A at Ketchum are 43-41-58 North Latitude and 114-23-55 West Longitude.

DATES: Comments must be filed on or before March 18, 2002, and reply comments on or before April 2, 2002.

ADDRESSES: Federal Communications Commission, Washington, D.C., 20554. In addition to filing comments with the FCC, interested parties should serve the petitioners, as follows: Scott C. Cinnamon, Law Offices of Scott C. Cinnamon, PLLC; 1090 Vermont Ave., Suite 800; Washington, 20005. (Counsel for petitioner for Ash Fork, Arizona); James P. Riley and Anne Goodwin Crump, Fletcher, Heald & Hildreth, P.L.C.; 1300 North 17th Street, Eleventh Floor; Arlington, Virginia 22209 (Counsel for petitioner for Bunnell, Florida); and Walter A. Sanders, Jr., Best Ski Country Radio; 28 Union Creek Road; Tylertown, Mississippi 39667 (Petitioner for Ketchum, Idaho).

FOR FURTHER INFORMATION CONTACT: R. Barthen Gorman, Mass Media Bureau, (202) 418-2180.

SUPPLEMENTARY INFORMATION: This is a synopsis of the Commission's Notice of Proposed Rule Making, MM Docket No. 02-12; MM Docket No. 02-13; and MM Docket No. 02-14, adopted January 16, 2002, and released January 25, 2002. The full text of this document is available for public inspection and copying during regular business hours in the FCC Reference Information Center, Portals II, 445 12th Street, SW., Room CY-A257, Washington, DC, 20554. This document may also be purchased from the Commission's duplicating contractor, Qualex International, Portals II, 445 12th Street, SW, Room CY-B402, Washington, DC, 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

1. Section 73.202(b), the Table of FM Allotments under Arizona, is amended by adding Ash Fork, Channel 285A.

2. Section 73.202(b), the Table of FM Allotments under Florida, is amended by adding Bunnell, Channel 254A.

3. Section 73.202(b), the Table of FM Allotments under Idaho, is amended by adding Channel 224A at Ketchum.

Federal Communications Commission.
John A. Karousos,
Chief, Allocations Branch, Policy and Rules Division, Mass Media Bureau.

[FR Doc. 02-3031 Filed 2-7-02; 8:45 am]

BILLING CODE 6712-01-P